ENVIRONMENTAL PROTECTION AGENCY

[EPA-HQ-OPP-2016-0242; EPA-HQ-OPP-2016-0226; FRL-9965-80]

Pesticides; Final Guidance for Pesticide Registrants on Two Pesticide Registration Notices Related to Resistance Management

AGENCY: Environmental Protection Agency (EPA).

ACTION: Notice of availability.

SUMMARY: The Environmental Protection Agency is announcing the availability of two final Pesticide Registration Notices (PRNs) entitled, “Guidance for Pesticide Registrants on Pesticide Resistance Management Labeling” and “Guidance for Herbicide Resistance Management Labeling, Education, Training, and Stewardship.” The Agency signed these final PRNs, identified as 2017-1 and 2017-2 respectively, on August 24, 2017. PRNs are issued by the Office of Pesticide Programs (OPP) to inform pesticide registrants and other interested persons about important policies, procedures, and registration-related decisions, and to provide guidance to pesticide registrants and OPP personnel. PRN 2017-1, which updates PRN 2001-5, provides guidance for registrants to follow when developing resistance management information to include on their pesticide labels. PRN 2017-2 communicates the Agency's current thinking and approach to address herbicide-resistant weeds by providing guidance on labeling, education, training, and stewardship for herbicides undergoing registration review or registration (i.e., new herbicide active ingredients, new uses proposed for use on herbicide-resistant crops, or other case-specific registration actions). The Agency requested comment on both of PRNs on June 3, 2016 (81 FR 35766 and 81 FR 35767). Today's final PRNs reflect consideration of public comments.

FOR FURTHER INFORMATION CONTACT: For questions or information related to PRN 2017-1, contact Nikhil Mallampalli, Biological and Economic Analysis Division (7503P), Office of Pesticide Programs, Environmental Protection Agency, 1200 Pennsylvania Ave. NW., Washington, DC 20460-0001; telephone number: (703) 308-1924; email address: mallampalli.nikhil@epa.gov.

For questions or information related to PRN 2017-2, contact Bill Chism, Biological and Economic and Analysis Division (7503P), Office of Pesticide Programs, Environmental Protection Agency, 1200 Pennsylvania Ave. NW., Washington, DC 20460-0001; telephone number: (703) 308-8136; email address: chism.bill@epa.gov.

SUPPLEMENTARY INFORMATION:

I. General Information

A. Does this action apply to me?

This action is directed to the public in general. Although this action may be of particular interest to those persons who submit data under the Federal Insecticide, Fungicide, and Rodenticide Act (FIFRA) or are required to register pesticides. Since other entities may also be interested, the Agency has not attempted to describe all the specific entities that may be affected by this action.

B. How can I get copies of this document and other related information?

The dockets for PRN 2017-1 and PRN 2017-2, identified by docket identification (ID) numbers EPA-HQ-OPP-2016-0242 and EPA-HQ-OPP-2016-0226, respectively, are available either electronically through http://www.regulations.gov or in hard copy at the OPP Docket in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What guidance do these PRNs provide?

A. PRN 2017-1

PRN 2017-1 (entitled “Guidance for Pesticide Registrants on Pesticide Resistance Management Labeling”) is aimed at improving information on pesticide labels to help pesticide users minimize and manage pest resistance. PRN 2017-1 updates PRN 2001-5 with the following categories of changes: (a) Provides additional guidance to registrants, and a recommended format for resistance-management statements or information to place on labels; (b) includes references to external technical resources for guidance on resistance management; and (c) updates the instructions on how to submit changes to existing labels in order to enhance resistance-management language. PRN 2017-1 also discusses what pesticides are covered by the PRN.

PRN 2017-1 addresses end-use herbicide, fungicide/bactericide, or insecticide/acaricide products that are intended for agricultural and certain non-cropland areas under commercial or government-sponsored pest management. The recommendations in PRN 2017-1 are for both products that are pending registration and currently registered products. In particular, the PRN applies to all field use agricultural pesticide products, as well as pesticides which are labeled for greenhouse production, sod farms, ornamental crops, aquatic vegetation, rights-of-way, and pest management along roadways. This guidance is not intended to apply to products labeled for use by the general consumer, such as residential use pesticides.

B. PRN 2017-2

PRN 2017-2 (entitled “Guidance for Herbicide Resistance Management Labeling, Education, Training, and Stewardship”) communicates the Agency's approach to address the development of herbicide-resistant weeds by providing guidance on labeling, education, training, and stewardship for herbicides undergoing registration review or registration (i.e., new herbicide actives, new uses proposed for use on herbicide-resistant crops, or other case-specific registration actions). It is part of a holistic, proactive, multi-stakeholder approach to slow the development and spread of herbicide-resistant weeds, and prolong the useful lifespan of herbicides and related technology. PRN 2017-2 articulates a combination of labeling and educational activities that are intended to slow the progression of development of resistant weeds.

PRN 2017-2 applies to end-use herbicide products used in agriculture, including commercial turf and sod farms, and ornamental production that is in the open. It also applies to non-agricultural use sites such as golf courses, aquatic vegetation, rights-of-way and vegetation management along roadways. This PRN does not apply to herbicide products labeled for use by the general consumer, such as residential use pesticides. Technical and manufacturing use products are expressly excluded.

III. What comments did EPA receive on these PRNs?

A. PRN 2017-1

The Agency received 19 comment letters on the PRN 2017-1 from non-governmental organizations (NGOs), grower groups, professional scientific societies, registrants, resistance action committees (RACs), and the United States Department of Agriculture (USDA). There was general agreement among commenters that additional resistance management information on labels would be useful, especially the routine inclusion of a pesticide's mode of action group, which is established by the various RACs. A few RACs disagreed with some of the suggested label statements in the guidance, particularly for fungicides and insecticides. Some commenters expressed concern and confusion about whether non-agricultural pesticides are covered and whether all of the guidance in the PRN is mandatory for registrants or pesticide users. The Agency has considered the various comments in finalizing PRN 2017-1 and developed a response to comments document (Ref 1.), which can be found under docket ID EPA-HQ-OPP-2016-0242.

B. PRN 2017-2

The Agency received 27 comment letters on the herbicide resistance management PRN 2017-2 from NGOs, crop groups, professional societies, registrants, RACs, and USDA. Most commenters generally agreed that pesticide labels should provide additional resistance management information. Several commenters proposed a single category of concern for resistance to develop instead of the proposed three categories of concern (low, moderate, and high) based on the potential for weeds to develop herbicide resistance with increasing elements for resistance management as the level of concern increased. Many commenters were against having the registrants provide additional information to the user/grower listing the weeds that are resistant to the herbicide(s) in the product. Some commenters expressed concern on whether non-agricultural pesticides are covered. The Agency has considered the various comments in finalizing PRN 2017-2 and developed a response to comments document (Ref. 2.), which can be found under docket ID EPA-HQ-OPP-2016-0226.

IV. Do PRNs contain binding requirements?

The PRNs discussed in this notice are intended to provide guidance to EPA personnel and pesticide registrants. While the requirements in the statutes and Agency regulations are binding on EPA and the applicants, these PRNs are not binding on either EPA or pesticide registrants, and EPA may depart from these PRNs where circumstances warrant and without prior notice. Likewise, pesticide registrants may assert that the guidance in these PRNs is not appropriate generally or not applicable to a specific pesticide or situation.

V. References

The following is a listing of the documents that are specifically referenced in this notice. The docket includes these documents and other information considered by EPA, including documents that are referenced within the documents that are included in the docket, even if the referenced document is not physically located in the docket. For assistance in locating these other documents, please consult the person listed under FOR FURTHER INFORMATION CONTACT.

USEPA, 2017a. Response to Comments Received on PRN 2016-X: Draft Guidance for Pesticide Registrants on Pesticide Resistance Management Labeling.

USEPA, 2017b. Response to Comments Received on PRN 2016-XX: Draft Guidance for Herbicide Resistance Management Labeling, Education, Training, and Stewardship.

Authority: 7 U.S.C. 136 et seq.

Dated: August 28, 2017.
Richard P. Keigwin, Jr.,
Director, Office of Pesticide Programs.

[FR Doc. 2017-20331 Filed 9-21-17; 8:45 am]

BILLING CODE 6560-50-P